ENVIRONMENTAL PROTECTION AGENCY

[OPP-2003-0200; FRL-7332-5]

Propanil and Fenamiphos; Use Deletion and Product Cancellation Order

AGENCY: Environmental Protection Agency (EPA).

ACTION: Notice.

SUMMARY: In accordance with section 6(f)(1) of the Federal Insecticide, Fungicide, and Rodenticide Act (FIFRA), as amended, the Agency is issuing a Cancellation Order announcing its approval for the voluntary product and use amendments/cancellations submitted by: Agriliance, LLC; Dow AgroSciences, LLC; and RiceCo, LLC, to voluntarily cancel all small grain uses (spring (hard red) wheat, oats, spring barley, and durum wheat) of certain end-use and technical products for the active ingredient propanil (3',4'-dichloropropionanilide), effective July 28, 2003; and Bayer CropScience to voluntary cancel all registrations for products containing the active ingredient fenamiphos (ethyl 3-methyl-4-(methylthio)phenyl-(1-methylethyl)phosphoramidate), effective May 31, 2007. In conjunction with the request for voluntary cancellation, Bayer CropScience has also agreed to amend their existing fenamiphos product registrations and implement interim risk mitigation measures.

FOR FURTHER INFORMATION CONTACT: For propanil: Carmen Rodia, Special Review and Reregistration Division (7508C), Office of Pesticide Programs, Environmental Protection Agency, 1200 Pennsylvania Avenue, NW., Washington, DC 20460-0001; telephone number: (703) 306-0327; fax number: (703) 308-8041; e-mail address: rodia.carmen@epa.gov.

For fenamiphos: Tawanda Spears, Special Review and Reregistration Division (7508C), Office of Pesticide Programs, Environmental Protection Agency, 1200 Pennsylvania Avenue, NW., Washington, DC 20460-0001; telephone number: (703) 308-8050; fax number: (703) 308-8005; e-mail address: spears.tawanda@epa.gov.

SUPPLEMENTARY INFORMATION:

I. General Information

A. Does this Action Apply to Me?

This action is directed to the public in general. This action may however, be of interest to persons who are or may be required to conduct testing of chemical substances under FIFRA or the Federal Food, Drug, and Cosmetic Act (FFDCA); environmental, human health, and agricultural advocates; pesticide users; and members of the public interested in the use of pesticides. Since other entities may also be interested, the Agency has not attempted to describe all of the specific entities that may be affected by this action. If you have any questions regarding the applicability of this action to a particular entity or if there are any technical questions related to propanil or fenamiphos, please consult the appropriate chemical review manager as listed under FOR FURTHER INFORMATION CONTACT.

B. How Can I Get Copies of this Document and Other Related Information?

1. Docket. EPA has established an official public docket for this action under docket identification (ID) number OPP-2003-0200. The official public docket consists of the documents specifically referenced in this action, any public comments received and other information related to this action. Although a part of the official docket, the public docket does not include Confidential Business Information (CBI) or other information whose disclosure is restricted by statute. The official public docket is the collection of materials that is available for public viewing at the Public Information and Records Integrity Branch (PIRIB), Room 119, Crystal Mall #2, 1921 Jefferson Davis Highway, Arlington, VA 22202-4501. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://cascade.epa.gov/RightSite/dk_public_ home.htm to submit or view public comments, access the index listing of the contents of the official public docket and to access those documents in the public docket that are available electronically. Although not all docket materials may be available electronically, you may still access any of the publicly available docket materials through the docket facility identified in Unit I.B.1. Once in the system, select “search,” then key in the appropriate docket ID number.

II. Background

A. What Action is the Agency Taking?

This Order follows up a June 27, 2003, notice of receipt of written requests by Agriliance, LLC; Dow AgroSciences, LLC; and RiceCo, LLC to voluntarily amend or cancel their product registrations to terminate the use of propanil on small grains (68 FR 38328) (FRL-7310-6). For fenamiphos, this Order follows up a September 27, 2002 (67 FR 61098) (FRL-7274-2), notice of receipt of a request from Bayer CropScience to voluntarily cancel all their registrations for products containing fenamiphos.

As part of these notices, the Agency indicated that it would issue an Order granting the voluntary product and use registration amendments or cancellations unless the Agency received substantive comment within the respective 30-day public comment periods that would merit its further review of these requests. EPA did not receive any comments specific to these cancellations. Accordingly, the Agency hereby issues in this notice a Cancellation Order granting the requested amendments or cancellations for propanil and fenamiphos registrations. Any distribution, sale or use of the products subject to this Cancellation Order is only permitted in accordance with the terms of the existing stocks provisions of this Cancellation Order.

As part of this Cancellation Order, EPA is approving the requested cancellations or amendments of 15 end-use and technical product registrations registered under section 3 of FIFRA as requested by Agriliance, LLC; Bayer CropScience; Dow AgroSciences, LLC; and RiceCo, LLC for the propanil and fenamiphos products identified in Tables 1 and 2 below. For propanil, the cancellations/amendments were effective on July 28, 2003. For fenamiphos, the cancellations are effective May 31, 2007.

Agriliance, LLC; Dow AgroSciences, LLC; and RiceCo, LLC requested that the Administrator waive the 180-day comment period provided under FIFRA section 6(f)(1)(C) for propanil. In addition, Bayer CropScience requested that the Administrator waive the 180-day comment period for fenamiphos. In light of the registrant's requests, EPA provided a 30-day public comment period on the voluntary cancellation and use deletion requests.

The Agency did not receive any comments specific to these cancellations. Accordingly, EPA is issuing an Order in this notice canceling the eight registrations identified in Table 1 and amending the seven registrations listed in Table 2.

Table 1.—End-Use and Technical Product Registration Cancellations for Fenamiphos and Propanil
Company Name and Address | EPA Registration Number | Product Name | Chemical Name
Bayer CropScience 2 T.W. Alexander Drive Research Triangle Park, NC 27709 | 3125-236 (old) 264-726 (new) | NEMACUR 15% Granular | Fenamiphos
| 3125-237 (old) 432-1291 (new) | NEMACUR 10% Turf and Ornamental Nematicide | Fenamiphos
| 3125-269 (old) 264-727 (new) | NEMACUR Technical Nematicide-Insecticide | Fenamiphos
| 3125-283 (old) 264-731(new) | NEMACUR 3 | Fenamiphos
| 3125-333 (old) 264-739 (old) | NEMACUR Concentrate Nematicide-Insecticide | Fenamiphos
Dow AgroSciences, LLC 9330 Zionsville Road Indianapolis, IN 46268-1054 | 62719-386 | STAMPEDE 3E (Alternate Brand) | Propanil
| 62719-404 | STAMPEDE CM | Propanil
| 62719-413 | STAMPEDE 80 EDF (Alternate Brand) | Propanil

Table 1.—End-Use and Technical Product Registration Cancellations for Fenamiphos and Propanil
Company Name and Address | EPA Registration Number | Product Name | Chemical Name
Bayer CropScience 2 T.W. Alexander Drive Research Triangle Park, NC 27709 | 3125-236 | NEMACUR 15% Granular | Fenamiphos
| 3125-237 | NEMACUR 10% Turf and Ornamental Nematicide | Fenamiphos
| 3125-269 | NEMACUR Technical Nematicide Insecticide | Fenamiphos
| 3125-283 | NEMACUR 3 | Fenamiphos
| 3125-333 | NEMACUR Concentrate Nematicide- Insecticide | Fenamiphos
Dow AgroSciences, LLC 9330 Zionsville Road Indianapolis, IN 46268-1054 | 62719-386 | STAMPEDE 3E (Alternate Brand) | Propanil
| 62719-404 | STAMPEDE CM | Propanil
| 62719-413 | STAMPEDE 80 EDF (Alternate Brand) | Propanil

Pursuant to section 6(f)(1)(A) of FIFRA, Agriliance, LLC; Dow AgroSciences, LLC; and RiceCo, LLC submitted requests to amend a number of their propanil end-use and technical product registrations to terminate the small grains (spring (hard red) wheat, oats, spring barley, and durum wheat) use. In the Federal Register of June 27, 2003 (FRL-7310-6), EPA published a notice of receipt of written requests by the registrants to voluntarily amend their product registrations to terminate the use of propanil on small grains as summarized in Table 2 below. EPA did not receive any comments on the notice.

Table 2.—End-Use and Technical Product Registration Amendments for Propanil
Company Name and Address | EPA Registration Number | Product Name Use Deletions | Use Deletions
Agriliance, LLC 5600 Cenex Drive Inver Grove Heights, MN 55077-1723 | 9779-338 | PROPANIL 80 EDF | Amend label to delete use on spring (hard red) wheat, spring barley, and durum wheat
Dow AgroSciences, LLC 9330 Zionsville Road Indianapolis, IN 46268-1054 | 62719-386 | STAM F-34 | Amend label to delete use on spring (hard red) wheat, oats, spring barley, and durum wheat
| 62719-403 | STAM TECHNICAL 98% DCA | Amend label to delete use on spring (hard red) wheat, oats, spring barley, and durum wheat
| 62719-413 | STAM 80 EDF | Amend label to delete use on spring (hard red) wheat, oats, spring barley, and durum wheat
RiceCo, LLC 5100 Poplar Avenue, Suite 2428 Memphis, TN 38137-2428 | 71085-1 | RICECO PROPANIL TECHNICAL | Amend label to delete use on spring (hard red) wheat, spring barley, and durum wheat
| 71085-21 | RICECO PROPANIL TECHNICAL | Amend label to delete use on spring (hard red) wheat, spring barley and durum wheat
| 71085-22 | PROPANIL 60 DF | Amend label to delete use on spring (hard red) wheat, spring barley, and durum wheat

Any distribution, sale or use of existing stocks of the products identified in Tables 1 and 2 in a manner inconsistent with the terms of this Cancellation Order or the Existing Stock Provisions in Unit IV. of this notice will be considered a violation of section 12(a)(2)(K) of FIFRA and/or section 12(a)(1)(A) of FIFRA.

B. Amendments to Existing Fenamiphos Product Registrations

In addition to the request to cancel all of their fenamiphos product registrations, Bayer CropScience has also agreed to amend their existing fenamiphos product registrations to:

1. Prohibit all use and formulation for use on extremely vulnerable soils after May 31, 2005.

2. Cap production at 500,000 pounds of fenamiphos manufacturing-use products used in the U.S. for the year ending May 31, 2003.

3. Reduce production by 20% of the previous year's production for each subsequent year during the 5-year phase-out period.

Finally, the Agency approved revised labels submitted by Bayer CropScience implementing risk mitigation measures identified in the Fenamiphos Interim Reregistration Eligibility Decision (IRED) document, which was approved on March 31, 2002.

C. What is the Agency's Authority for Taking this Action?

Pursuant to section 6(f) of FIFRA, EPA hereby approves the requested cancellations or amendments of the propanil and fenamiphos product and use registrations identified in Tables 1 and 2 of this Cancellation Order. Accordingly, the Agency orders that the propanil and fenamiphos end-use and technical product registrations identified in Table 1 are hereby canceled in accordance with the time frames stipulated in Unit II.A. The Agency also orders that all of the uses identified for deletion in Table 2 are hereby canceled from the end-use and technical product registrations identified in Table 2.

III. Import Tolerances for Fenamiphos

Bayer CropScience anticipates that commodities treated with fenamiphos may continue to be imported into the U.S. after the final effective date of cancellation and after existing stocks in the U.S. are exhausted. As such, Bayer CropScience intends to support import tolerances for banana, citrus, garlic, grape, and pineapple.

IV. Existing Stocks Provisions

For purposes of this Cancellation Order, the term “existing stocks” is defined, pursuant to EPA's existing stocks policy (56 FR 29362, June 26, 1991), as those stocks of a registered pesticide product which are currently in the U.S. and which have been packaged, labeled and released for shipment prior to the effective date of the amendment or cancellation. The existing stocks provisions of this Cancellation Order are as follows.

A. Distribution or Sale of Products Bearing Instructions for Use on Agricultural Crops

The distribution and sale of existing stocks by Agriliance, LLC; Dow AgroSciences, LLC; and RiceCo, LLC of any propanil product listed in Table 1 or 2 that bears instructions for use on small grains will not be lawful under FIFRA after June 28, 2004, except for the purposes of shipping such stocks for export consistent with section 17 of FIFRA or for proper disposal.

As of May 31, 2007, all sale and distribution by Bayer CropScience, the sole registrant of fenamiphos products (manufacturing-use and end-use products), shall be prohibited. Persons other than Bayer CropScience may sell and distribute such products until May 31, 2008.

B. Retail and Other Distribution or Sale of Existing Stock of Products

Persons other than Agriliance, LLC; Dow AgroSciences, LLC; and RiceCo, LLC may continue to sell or distribute the existing stocks of any propanil product listed in Table 2 that bears instructions for use on small grains until those stocks are depleted.

C. Use of Existing Stocks

EPA intends to permit the use of existing stocks of products listed in Table 1 or 2 until such stocks are exhausted, provided such use is in accordance with the existing labeling of that product.

List of Subjects

Environmental protection, Fenamiphos, Pesticides and pests, Propanil.

Dated: November 18, 2003.
Betty Shackleford,
Acting Director, Special Review and Reregistration Division, Office of Pesticide Programs.

[FR Doc. 03-30159 Filed 12-9-03; 8:45 a.m.]

BILLING CODE 6560-50-S